DEPARTMENT OF JUSTICE

Office of Justice Programs

[OJP(OJP)-1341]

Notice of Intent To Prepare an Environmental Impact Statement/Environmental Impact Report (EIS/EIR) for the Construction and Operation of a Juvenile Justice Campus in Fresno County, California

AGENCY: Office of Justice Programs, Justice.

ACTION: Notice of Intent (NOI).

SUMMARY: Pursuant to the requirements of the National Environmental Policy Act (NEPA), codified at 42 U.S.C. 4321 et seq., the U.S. Department of Justice, Office of Justice Programs, Corrections Program Office (OJP/CPO) announces the Notice of Intent (NOI) for the preparation of an EIS/EIR for the Construction and Operation of a Juvenile Justice Campus (JJC) in Fresno County, California. The construction and operation of the JJC is being proposed by Fresno County which is applying for OJP/CPO grants funds obtained by the California Board of Corrections (BOC) through the Violent Offender Incarceration/Truth-in-Sentencing (VOI/TIS) Incentive Grants Program. This project is subject to NEPA review because it may be funded in part with federal funding available under the VOI/TIS Grant Program. The EIS/EIR is being prepared as a joint document so as to satisfy the requirements of the California Environmental Quality Act (CEQA) in addition to NEPA.

DATES: During the preparation of the draft EIS/EIR, there will be opportunities for public involvement in order to determine the issues to be examined. Public scoping meetings will be held at the Fresno County Plaza, 8th floor, Conference Room “A”, 2220 Tulare Street, Fresno, CA 93721, within thirty days of the date of this publication, to solicit input on the scope of the EIS/EIR to be conducted, and to identify significant issues related to the proposed action. Although the purpose of the agency Scoping Meeting will be to gather comments from interested and affected agencies, the public is invited to attend. Maps and information on the proposed action will be available beginning at 6:00 PM immediately prior to the formal portion of the meeting. The meeting location, date, and time will be well publicized and arranged to allow for the public as well as interested agencies and organizations to attend. The scoping meeting is being held for individuals to formally express their views on the proposed action and to identify those environmental issues or concerns with respect to the implementation of the proposed action and its alternatives so that these issues can be analyzed in depth in the draft EIS/EIR. Community input will be solicited throughout this process, and community comments will be incorporated into the decision-making process.

FOR FURTHER INFORMATION CONTACT: Public notice will be given concerning the availability of the draft EIS/EIR for public review and comment. Questions concerning the proposed action and the draft EIS/EIR may be directed to: Jill Young, Environmental Coordinator, Corrections Program Office, Office of Justice Programs, U.S. Department of Justice, 810 7th Street, NW, Washington, DC 20531, Telephone: 202.307-3914, Telefacsimile: 202.307-2019, or Michael A. Houghtby, Field Representative, State of California Board of Correction, Corrections Planning and Programs Division, 600 Bercut Drive, Sacramento, CA 95814, Telephone: 916.322.7085, Telefacsimile: 916.445.5796.

SUPPLEMENTARY INFORMATION:

Proposed Action

Fresno County is proposing to build and operate the JJC to better serve the community and the existing and future juvenile justice populations. The need for this action is based on the conditions of existing juvenile justice facilities, additional space requirements needed to accommodate projected growth rates in the youth population that will enter the juvenile justice system, and the County's desire to increase efficiency by concentrating all main functions of the juvenile justice system at a site close to downtown Fresno. The Proposed Action would include the acquisition of an approximately 210-acre site that would be capable of accommodating up to 1,400 beds in addition to the related functions that would be located on the campus. Related functions would include courts, offices, medical and mental health facilities, probation department offices, group homes, and related schooling, recreational, and community based programs. The Proposed Action would also include amending the Fresno County General Plan by redesignating the preferred site to Public Facility and rezoning to the AL-20 Zoning District.

Alternatives

The draft EIS/EIR will address the potential impacts of the “no action” alternative and the construction and operation of the JJC at alternative sites. Practicable alternative sites have been identified by Fresno County that include: Site #1b located at the northeast corner of W. Jensen and S. Grantland Avenues; Site #3 located at the northwest corner of the intersection of E. Jensen and S. Fowler Avenues; and Site #6 (the preferred site) located at the southwest quadrant of Highway 99 and E. American Avenue.

Dated: January 10, 2002.
Deborah J. Daniels,
Assistant Attorney General, Office of Justice Programs.

[FR Doc. 02-1000 Filed 1-14-02; 8:45 am]

BILLING CODE 4410-18-P